POSTAL SERVICE

39 CFR Part 111

Proposed Domestic Mail Manual Changes for First-Class Mail, Standard Mail, and Bound Printed Matter Flats

AGENCY: Postal Service.

ACTION: Proposed Rule; reopening of comment period.

SUMMARY: The Postal Service is seeking comments on the following proposed mail preparation changes to the Domestic Mail Manual (DMM): Packages of First-Class Mail Presorted rate flats and automation rate flats that are part of the same mailing job would be required to be co-trayed according to the standards in M910; packages of Standard Mail Presorted rate flats and automation rate flats that are part of the same mailing job would be required to be co-sacked according to the standards in M910; Standard Mail Enhanced Carrier Route and 5-digit flats would be required to be sacked or palletized using the labeling list L001 scheme sort (including the scheme sorts included in the optional preparation methods in M920, M930, and M940); and Bound Printed Matter Carrier Route and 5-digit flats would be required to be sacked or palletized using the labeling list L001 scheme sort.

DATES: Comments must be received on or before May 4, 2001.

ADDRESSES: Send written comments to the Manager, Mail Preparation and Standards, US Postal Service, 1735 N Lynn Street, Rm 3025, Arlington, VA 22209-6038. Written comments may be submitted via fax at 703-292-4058. Copies of all written comments are available via fax or mail by calling Anne Emmerth at the number listed below.

FOR FURTHER INFORMATION CONTACT: Anne Emmerth, 703-292-3641, aemmerth@email.usps.gov.

SUPPLEMENTARY INFORMATION: The Postal Service is extending the comment period on proposed changes to the Domestic Mail Manual (DMM) that would change mail preparation standards for flats. The changes themselves are outlined below by class of mail; the proposed DMM language follows at the end of this proposed rule. The proposed implementation date for these standards is September 1, 2001.

This proposed rule was published previously in the Federal Register on March 16, 2001 (66 FR 15206); the original comment period ended on April 13, 2001. As of that date, no comments were received. As a convenience, the entire text of the proposed rule is reproduced here.

Generally, the changes in this proposed rule are intended to align mail preparation more closely with the way that the Postal Service transports and processes flat-sized mail. The co-traying requirements for First-Class Mail flats and the co-sacking requirements for Standard Mail flats should result in fewer less-than-full trays and sacks and an overall reduction in the number of trays and sacks prepared by mailers and processed by the Postal Service. For Presorted rate Standard Mail, with sack-based rates, this may also result in lower postage rates for some mail that will move to a finer sack presort level. Requiring the use of labeling list L001 for sacked carrier route Standard Mail and Bound Printed Matter flats also will result in fewer sacks prepared by mailers. For mail on pallets, use of L001 should create more 5-digit level pallets, resulting in fewer package handlings for the Postal Service and better service for mailers.

The changes proposed are as follows:

1. First-Class Mail

Required Co-Traying

Currently, mailers have the option to use M910 to co-tray packages of Presorted rate flats and automation rate flats that are part of the same mailing job (current M130.1.6 and M820.1.9). This proposal would make the current option a requirement. If this proposal is adopted, any First-Class Mail mailing job that contains packages of Presorted rate flats and packages of automation rate flats must be co-trayed using M910.1.0.

2. Standard Mail

a. Scheme Sort

Currently, Standard Mail Enhanced Carrier Route flats are sorted to two required sack levels and one optional sort level (required carrier route, optional 5-digit scheme carrier routes, and required 5-digit carrier routes under M620.4.0). This proposal would make the optional 5-digit scheme carrier routes sort level (using labeling list L001) a required level. If this proposal is adopted, all Enhanced Carrier Route Standard Mail flats would be required to be sorted to all three sack levels.

Current M620.4.0 contains sack preparation requirements for Standard Mail Enhanced Carrier Route flats and irregular parcels. In order to apply the L001 scheme sort only to flats, the sacking requirements for flats have been separated into a different section. Therefore, the sack preparation requirements for irregular parcels are included in this proposed rule only to show renumbering and reorganization. There are no mail preparation changes for Standard Mail Enhanced Carrier Route irregular parcels.

Currently, mailers have the option to use the L001 scheme sort for Standard Mail Enhanced Carrier Route flats on pallets (M045.3.2). This proposal would make the two optional sort levels (5-digit scheme carrier routes and 5-digit scheme using labeling list L001) required sort levels. If this proposal is adopted, all packages of Standard Mail carrier route rate flats on pallets would be required to be sorted to 5-digit scheme carrier routes pallets and 5-digit scheme pallets as the first two sort levels.

Under the advanced preparation options in current M920, M930, and M940, mailers have the option of sorting with or without using the L001 scheme sort. This proposal would eliminate the “non-L001” sort (current M920.2.4, M920.2.6, M930.2.4, and M940.2.4). If this proposal is adopted, mailers sorting Standard Mail flats under M920, M930, or M940 will be required to use the L001 scheme sort.

These proposed changes apply to regular and nonprofit Standard Mail flats.

b. Required Co-Sacking

Currently, mailers have the option to use M910 to co-sack packages of Presorted rate flats and packages of automation rate flats that are part of the same mailing job (current M610.1.5 and M820.1.9). This proposal would require mailers to co-sack those packages. If this proposal is adopted, any Standard Mail mailing job that contains packages of Presorted rate flats and packages of automation rate flats must be co-sacked using M910.3.0.

These proposed changes apply to regular and nonprofit Standard Mail flats.

3. Bound Printed Matter

Scheme Sort

Currently, Bound Printed Matter Carrier Route flats are sorted to two required sack levels and one optional sort level (required carrier route, optional 5-digit scheme carrier routes, and required 5-digit carrier routes under M723.2.3). This proposal would make the optional 5-digit scheme carrier routes sort level (using labeling list L001) a required level. If this proposal is adopted, all Bound Printed Matter Carrier Route flats would be required to be sorted to all three sack levels.

Currently, mailers have the option to use the L001 scheme sort for Bound Printed Matter packages of carrier route and 5-digit flats on pallets (M045.3.3). This proposal would make the two optional sort levels (5-digit scheme carrier routes and 5-digit scheme using labeling list L001) required sort levels. If this proposal is adopted, all packages of Bound Printed Matter carrier route rate flats on pallets would be required to be sorted to 5-digit scheme carrier routes pallets, and all 5-digit packages would be required to be sorted to 5-digit scheme pallets as the first sort level.

PAVE Certification

PAVE-certified software is not required to sort Standard Mail and Bound Printed Matter flats using labeling list L001. For mailings that are co-trayed or co-sacked under M910, documentation produced by PAVE-certified software or standardized documentation under P012 must be submitted with each mailing job. Use of PAVE-certified software is required for the advanced “merging” preparation options in M920, M930, and M940, which include the L001 scheme sort.

Proposed Implementation Date

The proposed implementation date for these changes is September 1, 2001. This date allows presort software vendors time to update and distribute software to their customers, and also includes time for installation and testing of the software. Commenters are welcome to comment on the proposed implementation date, and should include specific reasons why this date is or is not feasible.

Although exempt from the notice and comment requirements of the Administrative Procedure Act (5 U.S.C. 553(b), (c)) regarding proposed rulemaking by 39 U.S.C. 410(a), the Postal Service invites comments on the following proposed revisions to the Domestic Mail Manual, incorporated by reference in the Code of Federal Regulations. See 39 CFR Part 111.

List of Subjects in 39 CFR part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below:

Domestic Mail Manual

M Mail Preparation and Sortation

M000 General Preparation Standards

M011 Basic Standards

1.0 TERMS AND CONDITIONS

1.3 Preparation Instructions

For the purposes of preparing mail:

* * * * *

[Amend 1.3j to show that the L001 scheme sort is required for Standard Mail Enhanced Carrier Route flats and Bound Printed Matter Carrier Route flats:]

j. A 5-digit/scheme carrier routes sort for carrier route rate Periodicals flats and irregular parcels, Enhanced Carrier Route rate Standard Mail flats, and Carrier Route Bound Printed Matter flats, prepared in sacks or as packages on pallets yields a 5-digit scheme carrier routes sack or pallet for those 5-digit ZIP Codes listed in L001 and 5-digit carrier routes sacks or pallets for other areas. The 5-digit ZIP Codes in each scheme are treated as a single presort destination subject to a single minimum sack or pallet volume, with no further separation by 5-digit ZIP Code required. Sacks or pallets prepared for a 5-digit scheme carrier routes destination that contain carrier route packages for only one of the schemed 5-digit areas are still considered 5-digit scheme carrier routes sorted and are labeled accordingly. The 5-digit/scheme carrier routes sort is required for carrier route packages of flat-size and irregular parcel Periodicals, for Enhanced Carrier Route Standard Mail flats, and for Carrier Route Bound Printed Matter flats. Preparation of 5-digit scheme carrier routes sacks or pallets must be done for all 5-digit scheme destinations.

[Amend 1.3k to show that the scheme sort is required for Standard Mail flats and Bound Printed Matter flats:]

k. A 5-digit/scheme sort for Periodicals flats and irregular parcels, Standard Mail flats, and Bound Printed Matter flats prepared as packages on pallets yields 5-digit scheme pallets containing automation rate and Presorted rate 5-digit packages for those 5-digit ZIP Codes listed in L001 and yields 5-digit pallets containing automation rate and Presorted rate 5-digit packages for other areas (automation rate packages are not applicable to Bound Printed Matter). The 5-digit ZIP Codes in each scheme are treated as a single presort destination subject to a single minimum pallet volume, with no further separation by 5-digit ZIP Code required. Pallets prepared for a 5-digit scheme destination that contain 5-digit packages for only one of the schemed 5-digit areas are still considered 5-digit scheme sorted and are labeled accordingly. The 5-digit/scheme sort is required for flat-size and irregular parcel-size Periodicals, for Standard Mail flats, and for Bound Printed Matter flats. The 5-digit/scheme sort may not be used for other mail prepared on pallets, except for 5-digit packages of Standard Mail irregular parcels that are part of a mailing job that is prepared in part as palletized flats at automation rates. Preparation of 5-digit scheme pallets must be done for all 5-digit scheme destinations.

* * * * *

M040 Pallets

M041 General Standards

* * * * *

5.0 PREPARATION

5.2 Required Preparation

These standards apply to:

[Amend item a to show that the L001 scheme sort is required for Standard Mail.]

a. Periodicals, Standard Mail, and Package Services (except for Parcel Post mailed at BMC Presort, OBMC Presort, DSCF, and DDU rates). A pallet must be prepared to a required sortation level when there are 500 pounds of Periodicals, Standard Mail, or Package Services mail in packages or sacks, or 500 pounds of parcels, or six layers of Periodicals or Standard Mail letter trays. For packages of Periodicals flats and irregular parcels and packages of Standard Mail flats on pallets that are prepared under the standards for package reallocation to protect the SCF pallet (M045.4.0), not all mail for a 5-digit scheme carrier routes, 5-digit scheme, 5-digit carrier routes, or 5-digit pallet or for a merged 5-digit scheme, merged 5-digit, or 3-digit pallet is required to be on that corresponding pallet level. For packages of Standard Mail flats on pallets prepared under the standards for package reallocation to protect the BMC pallet (M045.5.0), not all mail for a required ASF pallet is required to be on an ASF pallet. Mixed ADC or mixed BMC pallets of sacks, trays, or machinable parcels, as appropriate, must be labeled to the BMC or ADC (as appropriate) serving the post office where mailings are entered into the mailstream. The processing and distribution manager of that facility may issue a written authorization to the mailer to label mixed BMC or mixed ADC pallets to the post office or processing and distribution center serving the post office where mailings are entered. These pallets contain all mail remaining after required and optional pallets are prepared to finer sortation levels under M045, as appropriate.

* * * * *

5.6 Mail on Pallets

These standards apply to mail on pallets:

* * * * *

[Amend item g to read as follows:]

g. For nonletter-size Periodicals, Standard Mail flats, and Bound Printed Matter flats, packages of carrier route rate mail must be prepared on separate 5-digit pallets from automation and Presorted rate mail. Exception: For Periodicals and Standard Mail, under the standards in M920, M930, and M940, carrier route rate, automation rate, and Presorted rate packages can be combined onto the same merged 5-digit scheme pallet and merged 5-digit pallet for applicable 5-digit ZIP Codes.

[Delete item h.]

* * * * *

M045 Palletized Mailings

* * * * *

3.0 PALLET PRESORT AND LABELING

* * * * *

3.2 Standard Mail Packages, Sacks, or Trays on Pallets

[Amend the introduction to 3.2 and 3.2a through 3.2d to show that the scheme sort using L001 is required for packages of Standard Mail flats.]

Mailers must prepare pallets in the sequence listed below, except that mailings of sacks on pallets, trays on pallets, and irregular parcels must be prepared beginning with 3.2c (because L001 scheme sort is not permitted). Pallets must be labeled according to the Line 1 and Line 2 information listed below and under M031. At the mailer's option, Standard Mail flats prepared as packages on pallets may be palletized in accordance with the advanced presort options in M920, M930, or M940.

a. 5-Digit Scheme Carrier Routes. Required for packages of flats on pallets. Not permitted for sacks or trays on pallets, or for irregular parcels on pallets except under M011. May contain only carrier route rate packages for the same 5-digit scheme under L001. Scheme sort must be done for all 5-digit scheme destinations. For all 5-digit destinations that are not part of a scheme, prepare 5-digit carrier routes pallets under 3.2c.

(1) Line 1: use L001, Column B.

(2) Line 2: “STD FLTS”; followed by “CARRIER ROUTES” or “CR-RTS”; followed by “SCHEME” or “SCH.”

b. 5-Digit Scheme. Required for packages of flats on pallets. Not permitted for sacks or trays on pallets, or for irregular parcels on pallets except under M011. May contain only automation rate and/or Presorted rate packages for the same 5-digit scheme under L001. Scheme sort must be done for all 5-digit scheme destinations. For all 5-digit destinations that are not part of a scheme, prepare 5-digit pallets under 3.2d.

(1) Line 1: use L001, Column B.

(2) Line 2: “STD FLTS 5D”; followed by “BARCODED” or “BC” if the pallet contains automation rate mail; followed by “NONBARCODED” or “NBC” if the pallet contains Presorted rate mail; followed by “SCHEME” or “SCH.”

c. 5-Digit Carrier Routes. Required for sacks and packages; optional for trays. May contain only carrier route rate mail for the same 5-digit ZIP Code.

(1) Line 1: use city, state abbreviation, and 5-digit ZIP Code destination (see M031 for military mail).

(2) Line 2: “STD FLTS” or “STD IRREG” or, for trays on pallets only, “STD LTRS” as applicable; followed by “CARRIER ROUTES” or “CR-RTS.”

d. 5-Digit. Required for sacks and packages; optional for trays. May contain only automation rate and/or Presorted rate mail for the same 5-digit ZIP Code.

(1) Line 1: use city, state abbreviation, and 5-digit ZIP Code destination (see M031 for military mail).

(2) Line 2: “STD FLTS 5D” or “STD IRREG 5D” or, for trays on pallets only, “STD LTRS 5D” as applicable; followed by “BARCODED” or “BC” if the pallet contains automation rate mail; followed by “NONBARCODED” or “NBC” if the pallet contains Presorted rate mail.

* * * * *

3.3 Bound Printed Matter Flats—Packages and Sacks on Pallets

[Amend the introduction to 3.3 and 3.3a through 3.3d to show that the scheme sort using L001 is required for packages of Bound Printed Matter flats.]

Mailers must prepare pallets in the sequence listed below, except that mailings of sacks on pallets must be prepared beginning with 3.3c (because L001 scheme sort is not permitted). Pallets must be labeled according to the Line 1 and Line 2 information listed below and under M031.

a. 5-Digit Scheme Carrier Routes. Required for packages of flats on pallets. Not permitted for sacks on pallets. May contain only Carrier Route rate packages for the same 5-digit scheme under L001. Scheme sort must be done for all 5-digit scheme destinations. For all 5-digit destinations that are not part of a scheme, prepare 5-digit carrier routes pallets under 3.3c.

(1) Line 1: use L001, Column B.

(2) Line 2: “PSVC FLTS,” followed by “CARRIER ROUTES” or “CR-RTS” and “SCHEME” or “SCH.”

b. 5-Digit Scheme. Required for packages of flats on pallets. Not permitted for sacks on pallets. May contain only Presorted rate packages for the same 5-digit scheme under L001. Scheme sort must be done for all 5-digit scheme destinations. For all 5-digit destinations that are not part of a scheme, prepare 5-digit pallets under 3.3d.

(1) Line 1: use L001, Column B.

(2) Line 2: “PSVC FLTS 5D” followed by “SCHEME” or “SCH.”

c. 5-Digit Carrier Routes. Required for sacks and packages. May contain only Carrier Route rate mail for the same 5-digit ZIP Code.

(1) Line 1: use city, state abbreviation, and 5-digit ZIP Code destination (see M031 for military mail).

(2) Line 2: “PSVC FLTS” followed by “CARRIER ROUTES” or “CR-RTS.”

d. 5-Digit. Required for sacks and packages. May contain only Presorted rate mail for the same 5-digit ZIP Code.

(1) Line 1: use city, state abbreviation, and 5-digit ZIP Code destination (see M031 for military mail).

(2) Line 2: “PSVC FLTS 5D.”

* * * * *

4.0 PACKAGE REALLOCATION TO PROTECT SCF PALLET FOR PERIODICALS FLATS AND IRREGULAR PARCELS AND STANDARD MAIL FLATS ON PALLETS

[Amend 4.1 to delete references to optional sort levels.]

4.1 Basic Standards

Package reallocation to protect the SCF pallet is an optional preparation method (if performed, package reallocation must be done for the complete mailing job); only PAVE-certified presort software may be used to create pallets under the standards in 4.2 through 4.4. The software will determine if mail for an SCF service area would fall beyond the SCF level if all merged 5-digit scheme, 5-digit scheme carrier routes, 5-digit scheme, merged 5-digit, 5-digit carrier routes, 5-digit, or 3-digit pallets are prepared. Reallocation is performed only when there is mail for the SCF service area that would fall beyond the SCF pallet level (e.g., to an ADC or BMC pallet). The amount of mail required to bring the mail that would fall beyond the SCF level back to an SCF-level pallet level is the minimum volume that will be reallocated, where possible.

* * * * *

M100 First-Class Mail (Nonautomation)

* * * * *

M130 Presorted First-Class Mail

1.0 BASIC STANDARDS

* * * * *

1.6 Co-Traying With Automation Rate Mail

Except for automation rate mailings prepared under the tray-based preparation option in M820.3.0, if a single mailing job contains an automation rate mailing and a Presorted rate mailing, then it must be presorted under the co-traying standards in M910.

* * * * *

M600 Standard Mail (Nonautomation)

M610 Presorted Standard Mail

1.0 BASIC STANDARDS

1.1 All Mailings

In addition to the preparation standards in 2.0 through 5.0, the following basic standards must be met for all Presorted rate mailings:

* * * * *

[Amend item f to change the cross-reference from 1.3 to 1.4:]

f. Subject to 1.4, letter-size piece must be prepared in trays and, unless palletized, flat-size pieces must be prepared in sacks.

* * * * *

[Renumber current 1.2 through 1.6 as 1.3 through 1.7, respectively. Add new 1.2 to read as follows:]

1.2 Additional Standards for Sacked Flats Mailing Jobs Containing More Than One Mailing

The following standards apply:

a. If the mailing job contains a carrier route mailing, an automation rate mailing, and a Presorted rate mailing, then it must be prepared under one of the following options: (1) The carrier route mailing must be prepared under E630 and M620 and the automation rate and Presorted rate mailings must be prepared under M910; or (2) all three mailings in the mailing job must be prepared under M920.

b. If the mailing job contains an automation rate mailing and a Presorted rate mailing, then it must be prepared under the co-sacking standards in M910.

c. If the mailing job contains a carrier route mailing and a Presorted rate mailing, then it must be separately sacked under M610 and M620 or prepared using the merged sacking option under M920.

d. If the mailing job contains a carrier route mailing and an automation rate mailing, then it must be separately sacked under M620 and M820 or prepared using the merged sacking option under M920.

* * * * *

[Delete renumbered 1.6 (former 1.5), Co-Sacking with Automation Rate Mail, and renumber 1.7 as 1.6.]

[Amend 1.6 to read as follows:]

1.6 Merged Containerization of Flat-Size Carrier Route, Automation Rate, and Presorted Rate Mail

Under the optional preparation method in M920, 5-digit packages of Presorted flats must be co-sacked with packages of carrier route flats prepared under M620 and with 5-digit packages of automation flats prepared under M820 in merged 5-digit scheme sacks and merged 5-digit sacks. Under the optional preparation methods in M920, M930, or M940, 5-digit packages of Presorted flats must be copalletized with packages of carrier route rate flats prepared under M620 and with 5-digit packages of automation rate flats prepared under M820 on merged 5-digit scheme pallets and merged 5-digit pallets. See 1.2a for information on when preparation under M920 may be required.

* * * * *

M620 Enhanced Carrier Route Standard Mail

1.0 BASIC STANDARDS

* * * * *

[Amend 1.6 to read as follows:]

1.6 Merged Containerization of Flat-Size Carrier Route, Automation Rate, and Presorted Rate Mail

Under the optional preparation method in M920, packages of carrier route rate flats must be co-sacked with 5-digit packages of Presorted rate flats prepared under M610 and with 5-digit packages of automation rate flats prepared under M820 in merged 5-digit scheme sacks and merged 5-digit sacks. Under the optional preparation methods in M920, M930, or M940, packages of carrier route rate flats must be copalletized with 5-digit packages of Presorted flats prepared under M610 and with 5-digit packages of automation rate flats prepared under M820 on merged 5-digit scheme pallets and merged 5-digit pallets.

* * * * *

Note: The current DMM has the preparation standards for flats and irregulars combined into one section. Because the L001 scheme sort would be required for flats but not for irregulars, the current single section has been split into two sections: one for flats and one for irregulars. The standards for irregulars are included here because they have been renumbered and reorganized; however, there are no proposed changes to the mail preparation for irregular parcels.

[Amend 4.0 to add the required L001 scheme sort for flats to read as follows:]

4.0 SACK PREPARATION—FLATS

4.1 Required Sack Minimums

A sack must be prepared when the quantity of mail for a required presort destination reaches either 125 pieces or 15 pounds of pieces, whichever occurs first, subject to these conditions:

a. For identical-weight pieces, a single-piece weight of 1.92 ounces (0.12 pound) results in 125 pieces weighing 15 pounds. Identical-weight pieces weighing 1.92 ounces (0.12 pound) or less must be prepared using the 125-piece minimum; those that weigh more must be prepared using the 15-pound minimum.

b. For nonidentical-weight pieces, mailers must either use the minimum that applies to the average piece weight for the entire mailing (divide the net weight of the mailing by the number of pieces; the resulting average single-piece weight determines whether the 125-piece or 15-pound minimum applies) or sack by the actual piece count or mail weight for each sack, if documentation can be provided with the mailing that shows (specifically for each sack) the number of pieces and their total weight.

c. Mailers must note on the accompanying postage statement whether they applied the 125-piece (“PCS”) or 15-pound (“WT”) threshold or the method in 4.1b (“BOTH”).

4.2 Sack Preparation

Sack size, preparation sequence, and labeling:

a. Carrier route: required (minimum of 125 pieces/15 pounds, smaller volume not permitted).

(1) Line 1: use 5-digit ZIP Code destination of packages, preceded for military mail by the prefixes under M031.

(2) Line 2: “STD FLTS ECRWSS” or “STD FLTS ECRWSH” or “STD FLTS ECRLOT” as applicable, followed by the route type and number.

b. 5-digit scheme carrier routes: required (no minimum).

(1) Line 1: use L001, column B.

(2) Line 2: “STD FLTS CR-RTS SCH.”

c. 5-digit carrier routes: required (no minimum).

(1) Line 1: use 5-digit ZIP Code destination of packages, preceded for military mail by the prefixes under M031.

(2) Line 2: “STD FLTS CR-RTS.”

[Renumber current 5.0, Residual Pieces, as 6.0. Add new 5.0 to read as follows:]

5.0 SACK PREPARATION—IRREGULAR PARCELS

5.1 Required Sack Minimums

A sack must be prepared when the quantity of mail for a required presort destination reaches either 125 pieces or 15 pounds of pieces, whichever occurs first, subject to these conditions:

a. For identical-weight pieces, a single-piece weight of 1.92 ounces (0.12 pound) results in 125 pieces weighing 15 pounds. Identical-weight pieces weighing 1.92 ounces (0.12 pound) or less must be prepared using the 125-piece minimum, those that weigh more must be prepared using the 15-pound minimum.

b. For nonidentical-weight pieces, mailers must either use the minimum that applies to the average piece weight for the entire mailing (divide the net weight of the mailing by the number of pieces; the resulting average single-piece weight determines whether the 125-piece or 15-pound minimum applies) or sack by the actual piece count or mail weight for each sack, if documentation can be provided with the mailing that shows (specifically for each sack) the number of pieces and their total weight.

c. Mailers must note on the accompanying postage statement whether they applied the 125-piece (“PCS”) or 15-pound (“WT”) threshold or the method in 4.1b (“BOTH”).

5.2 Sack Preparation

Sack size, preparation sequence, and labeling:

a. Carrier route: required (minimum of 125 pieces/15 pounds, smaller volume not permitted).

(1) Line 1: use 5-digit ZIP Code destination of packages, preceded for military mail by the prefixes under M031.

(2) Line 2: “STD IRREG WSS” or “STD IRREG WSH” or “STD IRREG LOT” as applicable, followed by the route type and number.

b. 5-digit carrier routes: required (no minimum).

(1) Line 1: use 5-digit ZIP Code destination of packages, preceded for military mail by the prefixes under M031.

(2) Line 2: “STD IRREG CR-RTS.”

* * * * *

M700 Package Services

* * * * *

M720 Bound Printed Matter

* * * * *

M723 Carrier Route Bound Printed Matter

* * * * *

2.0 REQUIRED PREPARATION—FLATS

* * * * *

2.3 Sack Preparation

* * * * *

[Amend item b to show that the L001 scheme sort is required, not optional.]

b. 5-digit scheme carrier routes: required (no minimum); for Line 1, use L001, Column B.

* * * * *

M800 All Automation Mail

* * * * *

M820 Flats

1.0 BASIC STANDARDS

* * * * *

[Amend 1.9 to show that co-traying is required for First-Class Mail and co-sacking is required for Standard Mail.]

1.9 Required Co-Traying and Co-Sacking with Presorted Rate Mail

The following standards apply:

a. First-Class Mail: Except for mailings prepared under the tray-based preparation option in 3.0, if the mailing job contains an automation rate mailing and a Presorted rate mailing, then it must be prepared under the co-traying standards in M910.

b. Periodicals:

(1) If the mailing job contains a carrier route mailing, an automation rate mailing, and a Presorted rate mailing, then it must be prepared under one of the following options: (1) The carrier route mailing must be prepared under E230 and M220 and the automation rate and Presorted rate mailings must be prepared under M910; or (2) all three mailings in the mailing job must be prepared under M920.

(2) If the mailing job contains an automation rate mailing and a Presorted rate mailing, then it must be prepared under the co-sacking standards in M910.

(3) If the mailing job contains a carrier route mailing and an automation rate mailing, then it must be separately sacked under M220 and M820 or prepared using the merged sack option under M920.

c. Standard Mail:

(1) If the mailing job contains a carrier route mailing, an automation rate mailing, and a Presorted rate mailing, then it must be prepared under one of the following options: (1) The carrier route mailing must be prepared under E630 and M620 and the automation rate and Presorted rate mailings must be prepared under M910; or (2) all three mailings in the mailing job must be prepared under M920.

(2) If the mailing job contains only an automation rate mailing and a Presorted rate mailing, then it must be prepared under the co-sacking standards in M910.

(3) If the mailing job contains only a carrier route mailing and an automation rate mailing, then it must be separately sacked under M620 and M820 or prepared using the merged sack option under M920.

[Amend 1.10 to read as follows:]

1.10 Optional Merged Containerization with Presorted and Carrier Route Flats

When the conditions and preparation standards in M920, M930, or M940 are met, 5-digit packages of Presorted, automation, and carrier route rate mail that are part of the same mailing job may be combined on merged 5-digit scheme sacks or pallets and merged 5-digit sacks or pallets. Packages co-sacked or copalletized must be part of the same mailing job and mail class.

* * * * *

M900 Advanced Preparation Options for Flats

M910 Co-Traying and Co-Sacking Packages of Automation and Presorted Mailings

1.0 FIRST-CLASS MAIL

1.1 Basic Standards

[Amend the introduction of 1.1 to show that co-traying is required:]

Packages of flat-size pieces in an automation rate mailing prepared under M820.2.0 must be co-trayed with packages of flat-size pieces in a Presorted rate mailing under the following conditions:

* * * * *

3.0 STANDARD MAIL

3.1 Basic Standards

[Amend the introduction of 3.1 to show that co-sacking is required:]

Packages of flats in an automation rate mailing must be co-sacked with packages of flats in a Presorted rate mailing under the following conditions:

* * * * *

M920 Merged Containerization of Packages Using the City State Product

* * * * *

2.0 STANDARD MAIL

2.1 Basic Standards

Carrier route packages of flats in a carrier route rate mailing may be placed in the same sack or on the same pallet as 5-digit packages of flats from an automation rate mailing and 5-digit packages of flats from a Presorted rate mailing under the following conditions:

* * * * *

[Amend item f to delete references to the optional L001 scheme sort. This sort is now required.]

f. If sortation under this section is performed, merged 5-digit sacks or pallets must be prepared for all 5-digit ZIP Codes with an “A” or “C” indicator in the City State Product that permits such preparation when there is enough volume for the 5-digit ZIP Code to prepare that sack or pallet.

* * * * *

[Amend item k to delete references to the optional L001 scheme sort. This sort is now required:]

k. The packages from each separate mailing must be sorted together into sacks (co-sacked) under 2.3 and 2.4 or on pallets (copalletized) under 2.5 using presort software that is PAVE-certified.

* * * * *

[Delete 2.4 and 2.6. Renumber 2.5 (sacking with scheme sort) as 2.4. Renumber 2.6 (palletizing with scheme sort) as 2.5. Amend the title and introduction of renumbered 2.4 to read as follows:]

2.4 Sack Preparation and Labeling with Scheme (L001) Sort

Mailers must prepare sacks in the following manner and sequence. All carrier route packages must be placed in sacks under 2.4a through 2.4e as described below. Mailers must prepare all merged 5-digit scheme sacks, 5-digit scheme carrier routes sacks, and merged 5-digit sacks that are possible in the mailing based on the volume of mail to the destination using L001 and the Carrier Route Indicators field in the City State Product. Mailers must label sacks according to the Line 1 and Line 2 information listed below and under M032.

* * * * *

[Amend the title and introduction of renumbered 2.5 to read as follows:]

2.5 Pallet Preparation and Labeling with Scheme (L001) Sort

Mailers must prepare pallets in the manner and sequence listed below and under M041. Mailers must prepare all merged 5-digit scheme, 5-digit scheme carrier routes, 5-digit scheme, and merged 5-digit pallets that are possible in the mailing based on the volume of mail to the destination using L001 and/or the City State Product. Mailers must label pallets according to the Line 1 and Line 2 information listed below and under M031.

* * * * *

M930 Merged Palletization of Packages Using a 5% Threshold

* * * * *

2.0 STANDARD MAIL

2.1 Basic Standards

[Amend the introduction to read as follows:]

Carrier route packages of flats in a carrier route rate mailing may be placed on the same pallet as 5-digit packages of flats from an automation rate mailing and 5-digit packages of flats from a Presorted rate mailing under the following conditions:

* * * * *

[Amend items d and e to delete references to the optional L001 scheme sort.]

d. Automation rate 5-digit packages and Presorted rate 5-digit packages may be copalletized with carrier route packages only when the pieces in the 5-digit packages do not exceed the 5% threshold described in 2.3. Pallets of mail sorted in this manner are called “merged 5-digit scheme” pallets.

e. If sortation under this section is performed, merged 5-digit scheme pallets must be prepared whenever there is enough volume of carrier route and 5-digit packages under M041 and 2.3 to prepare such pallets.

* * * * *

[Amend item h to delete references to the optional L001 scheme sort.]

h. The packages from each separate mailing must be sorted together on pallets (copalletized) using presort software that is PAVE-certified.

* * * * *

2.3 5% Threshold Standards

[Amend the introduction to 2.3 to show that the L001 scheme sort is the only allowable sort:]

Mailers may place 5-digit packages with carrier route packages on the same merged 5-digit scheme and merged 5-digit pallet if all of the following conditions are met:

* * * * *

[Delete 2.4. Renumber 2.5 (palletizing with scheme sort) as 2.4. Amend the title and introduction of renumbered 2.4 to read as follows:

2.4 Pallet Preparation and Labeling with Scheme (L001) Sort

Mailers must prepare pallets of packages in the manner and sequence listed below and under M041. Mailers must prepare all merged 5-digit scheme, 5-digit scheme carrier routes, 5-digit scheme, and merged 5-digit pallets that are possible in the mailing based on the volume of mail to the destination using L001 and the 5% threshold. Mailers must label pallets according to the Line 1 and Line 2 information listed below and under M031.

* * * * *

M940 Merged Palletization of Packages Using the City State Product and a 5% Threshold

* * * * *

2.0 STANDARD MAIL

2.1 Basic Standards

[Amend the introduction to read as follows:]

Carrier route packages of flats in a carrier route rate mailing may be placed on the same pallet as 5-digit packages of flats from an automation rate mailing and 5-digit packages of flats from a Presorted rate mailing under the following conditions:

* * * * *

[Amend item f to delete references to the optional L001 scheme sort.]

f. If sortation under this section is performed, then merged 5-digit scheme pallets must be prepared whenever there is enough volume of carrier route and 5-digit packages under M041 to prepare such pallets using the criteria in 2.1e and the sortation criteria in 2.4.

* * * * *

[Amend item j to delete references to the optional L001 scheme sort.]

j. The packages from each separate mailing must be sorted together on pallets (copalletized) using presort software that is PAVE-certified.

* * * * *

2.3 5% Threshold Standard

[Amend the introduction to 2.3 to show that the L001 scheme sort is the only allowable sort:]

For 5-digit ZIP Codes with a “B” or “D” indicator in the City State Product, mailers may place 5-digit packages with carrier route packages on the same merged 5-digit scheme and merged 5-digit pallet if all of the following conditions are met:

* * * * *

[Delete 2.4. Renumber 2.5 (palletizing with scheme sort) as 2.4. Amend the title and introduction to read as follows:]

2.4 Pallet Preparation and Labeling with Scheme (L001) Sort

Mailers must prepare pallets of packages in the manner and sequence listed below and under M041. Mailers must prepare all merged 5-digit scheme, 5-digit scheme carrier routes, 5-digit scheme, and merged 5-digit pallets that are possible in the mailing based on the volume of mail to the destination using L001, the City State Product, and the 5% threshold. Mailers must label pallets according to the Line 1 and Line 2 information listed below and under M031.

* * * * *

An appropriate amendment to 39 CFR part 111 to reflect these changes will be published if the proposal is adopted.

Stanley F. Mires,
Chief Counsel, Legislative.

[FR Doc. 01-9510 Filed 4-16-01; 8:45 am]

BILLING CODE 7710-12-U